DEPARTMENT OF ENERGY

Senior Executive Service Performance Review Board

AGENCY: Department of Energy.

ACTION: Designation of performance review board standing register.

SUMMARY: This notice provides the Performance Review Board Standing Register for the Department of Energy. This listing supersedes all previously published lists of PRB members.

DATES: This appointment is effective as of September 29, 2022.

Ahmad M. Al-Daouk

Ceren Susut

Connie M. Flohr

Darrel S. Dehaven

Eric G. Nicoll

Geoffrey G. deBeauclair

Jami J. Rodgers

Jocelyn E. Richards

Kevin P. Kremer

Laura M. Tomlinson

Melody C. Bell

Michael A. Corriere

Michael P. Miller

Michael M. Montoya

Natalie N. Nelson-Jean

Peter J. O'Konski

Scott E. Hine

Steven P. Fentress

Tracy A. LeBeau

Signing Authority

This document of the Department of Energy was signed on September 29, 2022, by Farhana Hossain, Director of the Office of Corporate Executive Management, Office of the Chief Human Capital Officer, pursuant to delegated authority from the Secretary of Energy. That document with the original signature and date is maintained by DOE. For administrative purposes only, and in compliance with requirements of the Office of the Federal Register, the undersigned DOE Federal Register Liaison Officer has been authorized to sign and submit the document in electronic format for publication as an official document of the Department of Energy. This administrative process in no way alters the legal effect of this document upon publication in the Federal Register.

Signed in Washington, DC, on September 30, 2022.
Treena V. Garrett,
Federal Register Liaison Officer, U.S. Department of Energy.

[FR Doc. 2022-21679 Filed 10-5-22; 8:45 am]

BILLING CODE 6450-01-P